NATIONAL TRANSPORTATION SAFETY BOARD

Notice of Sunshine Act Meeting Cancellation

The National Transportation Safety Board has cancelled the Sunshine Act meeting previously scheduled for Tuesday, April 10, 2012, at the NTSB Conference Center, 429 L'Enfant Plaza SW., Washington, DC. The matter scheduled to be considered at the Sunshine Act meeting concerned Safety Recommendations to the National Air Racing Group (NAG) Unlimited Division and Reno Air Racing Association (RARA) concerning the September 16, 2011, accident at the Reno National Championship Air Races (NCAR) in Reno, Nevada.

NEWS MEDIA CONTACT: Telephone: (202) 314-6100.

FOR MORE INFORMATION CONTACT: Candi Bing, (202) 314-6403 or by email at bingc@ntsb.gov.

Tuesday, April 3, 2012.
Candi R. Bing,
Federal Register Liaison Officer.

[FR Doc. 2012-8491 Filed 4-4-12; 4:15 pm]

BILLING CODE 7533-01-P